DEPARTMENT OF COMMERCE

International Trade Administration

[A-821-831]

Investigation of Urea Ammonium Nitrate Solutions From the Russian Federation: Opportunity To Comment on the Russian Federation's Status as a Market Economy Country Under the Antidumping Duty Laws

AGENCY: Enforcement and Compliance, International Trade Administration, Department of Commerce.

SUMMARY: As part of the less-than-fair-value investigation of urea ammonium nitrate solutions (UAN) from the Russian Federation (Russia), we found that the petitioner has provided sufficient evidence for the Department of Commerce (Commerce) to examine whether to continue to treat Russia as a market economy (ME) country for purposes of the antidumping duty law. As a result, Commerce is seeking public comment and information with respect to the relevant statutory factors.

DATES: To be assured of consideration, written comments and information must be received no later than August 30, 2021.

ADDRESSES: You may submit comments and information at the Federal eRulemaking Portal: www.Regulations.gov. The identification number is ITA-2021-0003.

Instructions: You must submit comments by the above method to ensure that the comments are received and considered. Comments sent by any other method, to any other address or individual, or received after the end of the comment period, may not be considered. All comments and information received are a part of the public record and will generally be posted to http://www.regulations.gov without change. All Personal Identifying Information (for example, name, address, etc.) voluntarily submitted by the commenter may be publicly accessible. Do not submit confidential business information or otherwise sensitive or protected information. Any comments and information must be in English or be accompanied by English translations to be considered. Commerce will accept anonymous comments (enter “N/A” in the required fields if you wish to remain anonymous). Attachments to electronic comments will be accepted in Microsoft Word, Excel, or Adobe PDF file formats only. Supporting documents and any comments we receive on this docket may be viewed at http://www.regulations.gov/ITA-2021-0003.

FOR FURTHER INFORMATION CONTACT: Leah Wils-Owens, Office of Policy, Enforcement and Compliance, International Trade Administration, U.S. Department of Commerce, 1401 Constitution Avenue NW, Washington, DC 20230; telephone: (202) 482-4203.

SUPPLEMENTARY INFORMATION:

Background

Following a detailed economic analysis, Commerce has treated Russia as a market economy country since 2002.¹ On June 30, 2021, Commerce received a petition on imports of UAN from Russia filed in proper form by CF Industries Nitrogen, LLC and its subsidiaries, Terra Nitrogen, Limited Partnership and Terra International (Oklahoma) LLC (collectively, the petitioner). In accordance with section 732(b) of the Tariff Act of 1930, as amended (the Act), the petitioner alleged that imports of UAN from Russia are being, or are likely to be, sold in the United States at less than fair value within the meaning of section 731 of the Act, and that such imports are materially injuring and threaten to injure an industry in the United States. The petition also alleged that Russia should be treated as a non-market economy country for purposes of this investigation. Based upon our examination of the petition on UAN from Russia, the petition met the requirements of section 732 of the Act and Commerce subsequently initiated an AD investigation on July 20, 2021.

¹ See Inquiry into the Status of the Russian Federation as a Non-Market Economy Country Under the U.S. Antidumping Law (A-821-816), dated June 6, 2002.

Opportunity for Public Comment and Information

Commerce invites public comment (including arguments, facts, and/or other information) on any aspect of Russia's status as a market economy with regard to the factors listed in section 771(18)(B) of the Act, which are as follows:

(i) The extent to which the currency of the foreign country is convertible into the currency of other countries;

(ii) The extent to which wage rates in the foreign country are determined by free bargaining between labor and management;

(iii) The extent to which joint ventures or other investments by firms of other foreign countries are permitted in the foreign country;

(iv) The extent of government ownership or control of the means of production;

(v) The extent of government control over allocation of resources and over price and output decisions of enterprises; and

(vi) Such other factors as the administering authority considers appropriate.

Any comments and information must be received no later than August 30, 2021.

Notification to Interested Parties

This determination is issued and published in accordance with sections 751(b) and 771(18)(C)(ii) of the Act.

Dated: July 23, 2021.
Ryan Majerus,
Deputy Assistant Secretary for Policy and Negotiations.

[FR Doc. 2021-16252 Filed 7-29-21; 8:45 am]

BILLING CODE 3510-DS-P